DEPARTMENT OF TRANSPORTATION

Federal Aviation Administration

[Summary Notice No. PE-2009-11]

Petitions for Exemption; Summary of Petitions Received

AGENCY: Federal Aviation Administration (FAA), DOT.

ACTION: Notice of petitions for exemption received; Extension of comment period.

SUMMARY: In accordance with 14 CFR 11.47(c), the FAA has received a petition from NetJets Aviation, Inc. That petition requested an extension of the comment period for a petition from CitationShares Management LLC. The FAA will extend the comment period for 40 days after date of publication.

DATES: Comments on petitions received must identify the petition docket number involved and must be received on or before May 26, 2009.

ADDRESSES: You may send comments identified by Docket Number FAA-2009-0083 using any of the following methods:

• Government-wide rulemaking Web site: Go to http://www.regulations.gov and follow the instructions for sending your comments electronically.

• Mail: Send comments to the Docket Management Facility; U.S. Department of Transportation, 1200 New Jersey Avenue, SE., West Building Ground Floor, Room W12-140, Washington, DC 20590.

• Fax: Fax comments to the Docket Management Facility at 202-493-2251.

• Hand Delivery: Bring comments to the Docket Management Facility in Room W12-140 of the West Building Ground Floor at 1200 New Jersey Avenue, SE., Washington, DC, between 9 a.m. and 5 p.m., Monday through Friday, except Federal holidays.

• Docket: To read background documents or comments received, go to http://www.regulations.gov at any time or to the Docket Management Facility in Room W12-140 of the West Building Ground Floor at 1200 New Jersey Avenue, SE., Washington, DC, between 9 a.m. and 5 p.m., Monday through Friday, except Federal holidays.

SUPPLEMENTARY INFORMATION: We will post all comments we receive, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78).

Background

The comment period for the Summary of Petition Received published on March 25, 2009 (74 FR 12924) and closes on April 14, 2009. However, NetJets Aviation, Inc. petitioned the FAA to extend the comment period. This notice extends the comment period.

FOR FURTHER INFORMATION CONTACT: Tyneka Thomas (202) 267-7626 or Laverne Brunache (202) 267-3133, Office of Rulemaking, Federal Aviation Administration, 800 Independence Avenue, SW., Washington, DC 20591.

This notice is published pursuant to 14 CFR 11.85.

Issued in Washington, DC, on April 10, 2009.
Pamela Hamilton-Powell,
Director, Office of Rulemaking.

[FR Doc. E9-8607 Filed 4-14-09; 8:45 am]

BILLING CODE 4910-13-P